DEPARTMENT OF HEALTH AND HUMAN SERVICES

Food and Drug Administration

[Docket No. FDA-2010-N-0550]

Compliance Policy Guide Sec. 390.500 Definition of “High-Voltage Vacuum Switch”—21 CFR 1002.61(a)(3) and (b)(2); Withdrawal of Guidance

AGENCY: Food and Drug Administration, HHS.

ACTION: Notice; withdrawal.

SUMMARY: The Food and Drug Administration (FDA) is announcing the withdrawal of Compliance Policy Guide Sec. 390.500 Definition of “High-Voltage Vacuum Switch”—21 CFR 1002.61(a)(3) and (b)(2) (CPG Sec. 390.500). CPG Sec. 390.500 is included in FDA's Compliance Policy Guides Manual, which was listed in the Annual Comprehensive List of Guidance Documents that published on August 9, 2010.

DATES: The withdrawal is effective December 7, 2010.

FOR FURTHER INFORMATION CONTACT: Sean M. Boyd, Center for Devices and Radiological Health, Office of Communication, Education, and Radiological Programs, Food and Drug Administration, 10903 New Hampshire Ave., Bldg. 66, rm. 4640, Silver Spring, MD 20993-0002, 301-796-5895.

SUPPLEMENTARY INFORMATION: In a notice containing a cumulative list of guidances available from the agency that published in the Federal Register of August 9, 2010 (75 FR 48180 at 48233), FDA included the Compliance Policy Guides Manual, which includes CPG Sec. 390.500. FDA is withdrawing CPG Sec. 390.500 because it is obsolete.

Dated: November 22, 2010.
Dara Corrigan,
Associate Commissioner for Regulatory Affairs.

[FR Doc. 2010-30677 Filed 12-6-10; 8:45 am]

BILLING CODE 4160-01-P